FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 014399N.

Name: Philcon, Inc.

Address: 1025 Industrial Drive, Bensenville, IL 60106.

Date Revoked: December 20, 2005.

Reason: Surrendered license voluntarily.

License Number : 016430N.

Name: R.E. Rogers, Inc.

Address: 23824 Hawthorne Blvd., Suite 201, Torrance, CA 90505.

Date Revoked: January 6, 2006.

Reason: Surrendered license voluntarily.

License Number: 014410N.

Name: Tropical Shipping International Ltd.

Address: 821 Avenue E, Riviera Beach, FL 33404.

Date Revoked: December 7, 2005.

Reason: Surrendered license voluntarily.

Sandra L. Kusumoto,
Director, Bureau of Certification and Licensing.

[FR Doc. E6-1713 Filed 2-7-06; 8:45 am]

BILLING CODE 6730-01-P